DEPARTMENT OF TRANSPORTATION

Federal Aviation Administration

Agency Information Collection Activities: Requests for Comments; Clearance of Renewed Approval of Information Collection; SWIFT Customer Satisfaction Survey

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 28, 2011, vol. 76, no. 59, page 17181. This collection of information is necessary to determine how satisfied applicants are with the automated staffing solution. The information enables the FAA to improve and enhance its automated staffing process.

DATES: Written comments should be submitted by July 1, 2011.

FOR FURTHER INFORMATION CONTACT: Carla Scott on (202) 385-4293, or by e-mail at: Carla.Scott@faa.gov.

SUPPLEMENTARY INFORMATION: OMB Control Number: 2120-0699.

Title: SWIFT Customer Satisfaction Survey.

Form Numbers: There are no FAA Forms associated with this collection.

Type of Review: Renewal of an information collection.

Background: The information will be collected via an online form. It is part of the automated SWIFT staffing tool. The data collected is analyzed by Information Systems Division, AHP-100 to determine the quality of our service to our users and customers, to address any problems or issues found as a result of the data analysis.

Respondents: Approximately 175,000 applicants.

Frequency: Information is collected on occasion.

Estimated Average Burden per Response: 3 minutes.

Estimated Total Annual Burden: 2,625 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on May 23, 2011.
Carla Scott,
FAA Information Collection Clearance Officer, IT Enterprises Business Services Division, AES-200.

[FR Doc. 2011-13583 Filed 5-31-11; 8:45 am]

BILLING CODE 4910-13-P